DEPARTMENT OF VETERANS AFFAIRS

Notice of Availability of the Record of Decision (ROD) for the San Francisco VA Medical Center Long Range Development Plan and Environmental Impact Statement, San Francisco VA Medical Center

AGENCY: Department of Veterans Affairs.

ACTION: Notice of Availability ROD.

SUMMARY: The Department of Veterans Affairs (VA), San Francisco Health Care System (SFHCS) announces the availability of the Record of Decision (ROD) for the Long Range Development Plan (LRDP)/Environmental Impact Statement (EIS) for the San Francisco VA Medical Center (SFVAMC).

ADDRESSES: Copies of the ROD are available by request by writing to Robin Flanagan, Planning Office, SFVAMC 4150 Clement Street, San Francisco, CA 94121, telephone (415) 750-2049. The document is also available on the internet at the SFVAMC Web site: http://www.sanfrancisco.va.gov/planning.

FOR FURTHER INFORMATION CONTACT: Robin Flanagan, San Francisco VA Medical Center, 4150 Clement Street, San Francisco, CA 94121 or by telephone, (415) 750-2049.

SUPPLEMENTARY INFORMATION: SFVAMC, the only VA medical center in San Francisco County, has major space and parking deficiencies at its existing Fort Miley Campus. The mission of SFVAMC is to continue to be a major primary and tertiary care health care center providing cost-effective and high-quality care to eligible Veterans in the San Francisco Bay Area and North Coast. SFVAMC strives to deliver needed care to Veterans while contributing to health care knowledge through research and education. VA can better meet its mission by integrating clinical care, education, and research, because such integration makes for more efficient and progressive overall care for Veterans. SFVAMC is also a ready resource for Department of Defense (DoD) as backup for Federal emergencies and serves as the local Federal Coordinating Center (FCC) in the event of a national emergency. SFVAMC has completed the waiting period for the Final EIS and is going forward with the ROD.

VA issues the ROD for the Final LRDP/EIS as approved by, the VA Sierra Pacific Network (VISN 21) Director. The LRDP/EIS analyzed four alternatives, including a no-action alternative. The full range of foreseeable environmental consequences were assessed, and appropriate management and/or mitigation measures were identified and implemented to ensure less-than-significant major impact(s) from execution of the Preferred Alternative.

VA's decision is to implement Alternative 1 (hereinafter referred to as the “selected action”), which was identified in the final LRDP/EIS as the preferred alternative. VA's selected action consists of LRDP construction, retrofitting, and operation on the 29-acre Fort Miley Campus to meet seismic safety requirements, and to provide an additional 554,452 net new gross square feet (gsf), which will include 322,200 gsf of medical facilities space and 232,252 gsf for 306 net new parking garage spaces. This will allow the SFVAMC to continue offering combined clinical, research, and educational programs to satisfy the needs of all San Francisco Bay Area and North Coast Veterans over the next 15 years. Under the selected action, VA would construct the LRDP in phases, with the first phase including 384,000 gsf of net new development, as well as seismic retrofits schedule for completion by 2020. The second phase would include an additional 170,000 gsf of net new development scheduled for completion by 2026.

The ROD includes a summary of the purpose and need for action, identifies the selected action and all alternatives considered by the SFVAMC, lists measures to minimize environmental harm, details about the monitoring and mitigation plans, and describes the environmentally preferable alternative.

Signing Authority

The Secretary of Veterans Affairs, or designee, approved this document and authorized the undersigned to sign and submit the document to the Office of the Federal Register for publication electronically as an official document of the Department of Veterans Affairs. Robert L. Nabors II, Chief of Staff, Department of Veterans Affairs, approved this document on October 15, 2015, for publication.

Dated: October 16, 2015.
Michael Shores,
Chief Impact Analyst, Office of Regulation Policy & Management, Office of the General Counsel, Department of Veterans Affairs.

[FR Doc. 2015-26731 Filed 10-20-15; 8:45 am]

BILLING CODE 8320-01-P